ENVIRONMENTAL PROTECTION AGENCY

[ER-FRL-6644-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-J65389-MT Rating EC2, North Belts Travel Plan and the Dry Range Project, Provision of Motorized and Non-motorized Recreation, Helena National Forest, Broadwater, Lewis and Clark and Meagher Counties, MT.

Summary: EPA has environmental concerns regarding potential water quality effects and inconsistency of road management with TMDL development for impaired surface waters and potential adverse effects to wildlife habitat, security and connectivity with Alternatives 1, 2 and 3. EPA believes Alternatives 4 and 5 or a new modified alternative with reduced environmental effects should be considered as the preferred alternative. EPA supports inclusion of road, trail and watershed improvements in the preferred alternative, and believes additional information is needed to fully assess and mitigate all potential impacts of the management actions.

ERP No. D-BLM-K70009-CA Rating EC2, West Mojave Plan, Habitat Conservation Plan and Federal Land Use Plan Amendment, Implementation, California Desert Conservation Area, Portions of San Bernardino, Kern, Inyo, and Los Angeles Counties, CA.

Summary: EPA expressed environmental concerns and recommended additional mitigation measures to further protect desert tortoise and riparian/wetland and stream functions.

ERP No. D-COE-C39016-NJ Rating EC2, Union Beach Community Project, Provision of Hurricane and Storm Damage Reduction to Residential, Commercial and Recreational Resources, Located along the Raritan Bay and Sandy Hook Bay Shoreline, Monmouth County, NJ.

Summary: EPA had environmental concerns and requested that the final EIS include additional information on the wetlands mitigation plan and a Clean Air Act General Conformity Applicability Analysis.

ERP No. D-FHW-C40159-NJ Rating EC2, Penns Neck Area Transportation Service Improvements, Phase I Archeological Survey, U.S. 1, Sections 2S and 3J, Funding, West Windsor and Princeton Townships, Mercer County, and Plainsboro Township, Middlesex County, NJ.

Summary: EPA has environmental concerns with the proposed project's impacts regarding stormwater runoff, surface waters and vehicular traffic.

ERP No. D-FHW-D40093-PA Rating LO, City of Lebanon Bridge Over Norfolk Southern Railroad Tracks Construction Project, 12th Street to Lincoln Avenue, Funding, Lebanon County, PA.

Summary: EPA does not have objections regarding the proposed project.

ERP No. D-FHW-D40321-PA Rating EC2, Woodhaven Road Project, Traffic Congestion Reduction on Byberry Road between Roosevelt Boulevard and Huntingdon Pike, Funding, Philadelphia, Bucks and Montgomery Counties, PA.

Summary:EPA has environmental concerns regarding avoidance and minimization of the proposed project's impacts to surface waters and wetlands, forested habitats and environmental justice areas.

ERP No. D-FRC-L05200-OR Rating LO, Bull Run Hydroelectric Project (FERC No.477-024), Proposal to Decommission the Bull Run Project and Remove Project Facilities including Marmot Dam, Little Sandy Diversion Dam and Roslyn Lake, and an Application to Surrender License, Sandy, Little Sandy, Bull Run Rivers, Town of Sandy, Clackamas County, OR.

Summary:EPA supports the selection and implementation of the Settlement Agreement alternative including FERC staff recommended modifications as it will result in long term environmental benefits.

ERP No. D-NRC-E06022-SC Rating EC1, Generic—License Renewal of Nuclear Plants, Virgil C. Summer Nuclear Station, Supplement 15, Fairfield County, SC.

Summary: EPA notes that while the impacts of the project appear to be within acceptable limits, the plant will need to continue radiological monitoring of all effluents and the appropriate storage and disposition of radioactive waste during the license renewal period.

ERP No. DA-AFS-G65062-NM Rating LO, Agua/Caballos Timber Sale, Timber Harvest and Existing Vegetation Management, Implementation, Carson National Forest, El Rito Ranger District, Taos County, NM.

Summary: EPA expressed a lack of objections to the selection of the preferred alternative.

ERP No. DS-NRS-E36161-MS Rating LO, Town Creek Watershed Project, Impacts of Floodwater Retarding Structures (FWRS) No. 1, 5, 8, and 59 and Deletion of FWRS No. 10A, Funding, Lee, Pontotoc, Prentiss and Union Counties, MS.

Summary:EPA determined that the unavoidable losses associated with implementation of this flood control proposal are within acceptable limits and will be appropriately mitigated.

Final EISs

ERP No. F-AFS-L65369-00Boise National Forest, Payette National Forest and Sawtooth National Forest, Forest Plan Revision, Implementation, Southwest Idaho Ecogroup, several counties, ID, Malhaur County, OR and Box Elder County, UT.

Summary:No formal comment letter was sent to the preparing agency.

ERP No. F-COE-K30031-CAImperial Beach Shore Protection Project, Shore Protection and Prevention of Damage to Adjacent Beachfront Structures, Silver Strand Shoreline, City of Imperial Beach, San Diego County, CA.

Summary:No formal comment letter was sent to the preparing agency.

ERP No. F-FHW-E50292-FLSt. Augustine Bridge of Lions (SR AIA) Rehabilitation or Replacement of the Existing Two Lane Bridge Crossing over the Matanzas River, Intracoastal Waterway, U.S. Coast Guard Bridge Permit and NPDES Permit Issuance, St. Augustine, St. John County, FL.

Summary:EPA lacks objections to the preferred alternative. However, EPA recommends a stipulation for river bottom restoration and debris removal.

ERP No. F-SFW-A64059-00Programmatic EIS-Double crested Cormorant (DCCO) Management Plan, Reduction of Resource Conflicts, Flexibility Enhancements of Natural Resource Agencies in dealing with DCCO Related Resource Conflicts and to ensure the Conservation of Healthy, Viable DCCO Population, Implementation, The Contiguous United States.

Summary:No formal comment letter was sent to the preparing agency.

Dated: September 16, 2003.
Joseph C. Montgomery,
Director, NEPA Compliance Division, Office of Federal Activities.

[FR Doc. 03-24000 Filed 9-18-03; 8:45 am]

BILLING CODE 6560-50-P